DEPARTMENT OF THE INTERIOR

National Park Service

Fire Management Plan, Environmental Impact Statement, Grand Canyon National Park, AZ

AGENCY: National Park Service, Department of the Interior.

ACTION: Notice of Intent to prepare an Environmental Impact Statement for a Fire Management Plan for Grand Canyon National Park.

SUMMARY: Pursuant to the National Environmental Policy Act of 1969, 42 U.S.C. 4332 (C), the National Park Service is preparing an Environmental Impact Statement (EIS) for the Fire Management Plan (FMP) for Grand Canyon National Park. This effort will result in a new wildland fire management plan that meets current policies, provides a framework for making fire-related decisions, and serves as an operational manual. Development of a new fire plan is compatible with the broader goals and objectives presented in Grand Canyon National Park's 1995 General Management Plan (GMP).

The Environmental Impact Statement process will identify and evaluate the environmental impacts of several alternatives for fire management in the park. Alternatives will address resource protection, potential resource impacts, and various mitigation practices necessary or desirable to minimize adverse impacts to resource conditions. Alternatives to be considered will include no-action, and a reasonable range of alternatives that meet the project objectives, including various combinations of fire suppression, wildland fire use, prescribed fire, and mechanical treatments. The Environmental Impact Statement process will be conducted in consultation with the U.S. Fish and Wildlife Service, the Arizona State Historic Preservation Office, natural resource management agencies, affiliated American Indian tribes, and other interested Federal, state, and local agencies. Attention will also be given to resources outside the boundaries that affect the integrity of Grand Canyon.

Issues are expected to include protection of cultural resources, protection of plant and wildlife habitats, effects on native and non-native species, protection of threatened and endangered species and their habitats, protection of other natural resources, wildland urban interface, fire in proposed wilderness, protection of park neighbors' property, reducing impacts to park visitors, protection of life and property, protection of air quality, effects on tourism, and changes in landscape-scale vegetation patterns.

The public involvement process will include distribution of a scoping document requesting public input and comment. Several public meetings will be held in locations surrounding the park. The scoping document will describe the project in general, identify preliminary issues, and include specific meeting dates and locations. Information can be obtained from Dan Oltrogge, FMP Project Leader, Grand Canyon National Park, P.O. Box 129, Grand Canyon, AZ 86023, 928-638-7822.

DATES: The Park Service will accept comments from the public through November 17, 2003.

ADDRESSES: Information will be available for public review and comment in the office of the FMO, Dan Oltrogge, Grand Canyon National Park, P.O. Box 129, Grand Canyon, Arizona 86023; 928-638-7822.

FOR FURTHER INFORMATION CONTACT: Dan Oltrogge, FMP Project Leader, Grand Canyon National Park (928) 638-7822 or go to the Grand Canyon Compliance Web site at http://www.nps.gov/grca/compliance.

SUPPLEMENTARY INFORMATION: If you wish to comment on the scoping document, you may submit your comments by any one of several methods. You may mail comments to FMP Project, Grand Canyon National Park, P.O. Box 129, Grand Canyon, Arizona 86023. You may also comment via electronic mail (e-mail) to GRCA_FMP@nps.gov. Please submit e-mail comments as a text file avoiding the use of special characters and any form of encryption. Please also include your name, e-mail address, and return mailing address in your e-mail message. Finally, you may hand-deliver comments to Grand Canyon National Park at the Headquarters building between 8 a.m. and 5 p.m. weekdays. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: July 14, 2003.
Michael D. Snyder,
Deputy Director, Intermountain Region, National Park Service.

[FR Doc. 03-23350 Filed 9-15-03; 8:45 am]

BILLING CODE 4312-ED-M